DEPARTMENT OF COMMERCE

International Trade Administration

[A-821-808]

Suspension Agreement on Certain Cut-to-Length Carbon Steel Plate From the Russian Federation; Final Results of Antidumping Duty Administrative Review

AGENCY: Enforcement and Compliance, formerly Import Administration, International Trade Administration, Department of Commerce.

SUMMARY: On October 3, 2013, the Department of Commerce (the Department) published the preliminary results of an administrative review of the suspension agreement on certain cut-to-length carbon steel plate from the Russian Federation covering Joint Stock Company Severstal (Severstal). See Certain Cut-to-Length Carbon Steel Plate From the Russian Federation; 2012; Preliminary Results of Administrative Review of the Antidumping Duty Suspension Agreement, 78 FR 61333 (October 3, 2013) and accompanying Decision Memorandum (Preliminary Results). The period of review (POR) is January 1, 2012 through December 31, 2012. We received no comments from interested parties. For these final results, we have made no changes to our preliminary results.

DATES: Effective Date: December 9, 2013.

FOR FURTHER INFORMATION CONTACT: Sally C. Gannon or Anne D'Alauro, Enforcement and Compliance, U.S. Department of Commerce, 14th Street and Constitution Avenue NW., Washington, DC 20230, telephone: (202) 482-0162 or (202) 482-4830, respectively.

SUPPLEMENTARY INFORMATION:

Background

On December 20, 2002, the Department signed an agreement under section 734(b) of the Tariff Act of 1930, as amended (the Act), with Russian steel producers/exporters, including Severstal, which suspended the antidumping duty investigation on certain cut-to-length carbon steel plate (CTL plate) from the Russian Federation. See Suspension of Antidumping Duty Investigation of Certain Cut-to-Length Carbon Steel Plate from the Russian Federation, 68 FR 3859 (January 27, 2003) (Agreement). On October 3, 2013, the Department published its preliminary results of the administrative review of the Agreement for certain CTL plate from the Russian Federation produced by Severstal, the producer determined to account for substantially all (not less than 85 percent) of the subject merchandise imported into the United States during the January 1, 2012 through December 31, 2012 POR. See Preliminary Results. In its preliminary results, the Department determined that information submitted by Severstal indicated that, during the POR, Severstal adhered to the terms of the Agreement and that the Agreement is functioning as intended. We invited interested parties to comment on our preliminary results. No interested parties submitted comments.

Scope of Review

The products covered by the Agreement are CTL plate from the Russian Federation. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, our written description of the scope of the Agreement is dispositive. For a full description of the scope of this Agreement, see Appendix B of the Agreement.

Final Results of Review

We have made no changes to the preliminary results. Our review of the information submitted by Severstal indicates that the company has adhered to the terms of the Agreement and that the Agreement is functioning as intended. See Preliminary Results.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

Dated: December 3, 2013.
Ronald K. Lorentzen,
Deputy Assistant Secretary for Enforcement and Compliance.

[FR Doc. 2013-29340 Filed 12-6-13; 8:45 am]

BILLING CODE 3510-DS-P